DEPARTMENT OF AGRICULTURE

Farm Service Agency

[Docket No. FSA-2020-0001]

Information Collection Request; Power of Attorney

AGENCY: Farm Service Agency, USDA.

ACTION: Notice; request for comments.

SUMMARY: In accordance with the Paperwork Reduction Act of 1995, the Farm Service Agency (FSA) is requesting comments from all interested individuals and organizations on an extension and a revision of a currently approved information collection associated with the form of the Power of Attorney. This information collection is used to support the FSA, Commodity Credit Corporation (CCC), Natural Resources Conservation Service (NRCS), Federal Crop Insurance Corporation (FCIC) and Risk Management Agency (RMA) in conducting business and accepting signatures on certain documents from individuals acting on behalf of other individuals or entities.

DATES: We will consider comments that we receive by May 12, 2020.

ADDRESSES: We invite you to submit comments on this notice. In your comments, include date, volume, and page number of this issue of the Federal Register. You may submit comments by any of the following methods:

• Federal eRulemaking Portal: Go to http://www.regulations.gov and search for Docket ID FSA-2020-0001. Follow the online instructions for submitting comments.

• Mail: Joe Lewis Jr., Agricultural Program Specialist, USDA, FSA, STOP 0572, 1400 Independence Avenue SW, Washington, DC 20250-0572.

You may also send comments to the Desk Officer for Agriculture, Office of Information and Regulatory Affairs, Office of Management and Budget, Washington, DC 20503. Copies of the information collection may be requested by contacting Joe Lewis Jr. at the above addresses.

FOR FURTHER INFORMATION CONTACT: Joe Lewis Jr., (202) 720-0795.

SUPPLEMENTARY INFORMATION:

Title: Power of Attorney.

OMB Control Number: 0560-0190.

Expiration Date of Approval: June 30, 2020.

Type of Request: Revision and extension.

Abstract: Individuals or entities that want to appoint another to act as an attorney-in-fact in connection with certain FSA, CCC, NRCS, FCIC, and RMA programs and related actions must complete a form of FSA-211, Power of Attorney form. The form is used by a grantor to appoint another to act on the individual's or entity's behalf for certain FSA, CCC, NRCS, FCIC and RMA programs or other specific actions, giving the appointee legal authority to enter into certain programs, agreements, or contracts, or other specific actions on the grantor's behalf. The form also provides FSA, CCC, NRCS, FCIC and RMA a source to verify an individual's authority to sign and act for another in the event of errors or fraud. The information collected on the form is limited to grantor's name, signature and identification number, the grantee's address, and the applicable FSA, CCC, NRCS, FCIC and RMA programs or transactions.

The burden hours in this collection decreased by 58,032 since the last OMB approval. The reason for the decrease is due to the removal of travel times from the request. The respondents may submit applications by mail and many respondents go to the county offices to do regular and customary business with FSA for other FSA programs and can complete and submit the form FSA-211 during this time; this means no travel time is required specifically for the information collection and therefore, it is no longer included in the burden hour reporting.

For the following estimated total annual burden on respondents, the formula used to calculate the total burden hours is the estimated average time per responses multiplied by the estimated total annual of responses.

Estimate of Average Time To Respond: Public reporting burden for collecting information under this notice is estimated to average 0.483 minutes per response, including the time for reviewing instructions, searching existing data sources, gathering and maintaining the data needed, and completing and reviewing the collection of information.

Type of Respondents: Individuals and households.

Estimated Number of Respondents: 12,896.

Estimated Average Number of Responses per Respondent: 1.

Estimated Total Annual Responses: 12,896.

Estimated Average Time per Response: 0.483.

Estimated Total Annual Burden on Respondents: 6,224 hours.

We are requesting comments on all aspects of this information collection to help us to:

(1) Evaluate whether the proposed collection of information is necessary for the proper performance of the functions of the agency, including whether the information will have practical utility;

(2) Evaluate the accuracy of the agency's estimate of burden of the collection of information including the validity of the methodology and assumptions used;

(3) Evaluate the quality, utility and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval.

Richard Fordyce,
Administrator, Farm Service Agency.

[FR Doc. 2020-05162 Filed 3-12-20; 8:45 am]

BILLING CODE 3410-05-P